COMMODITY FUTURES TRADING COMMISSION

Renewal of the Agricultural Advisory Committee

AGENCY: Commodity Futures Trading Commission.

ACTION: Notice of renewal.

SUMMARY: The Commodity Futures Trading Commission (Commission) is publishing this notice to announce the renewal of the Agricultural Advisory Committee (AAC). The Commission has determined that the renewal of the AAC is necessary and in the public's interest, and the Commission has consulted with the General Services Administration's Committee Management Secretariat regarding the AAC's renewal.

FOR FURTHER INFORMATION CONTACT: Brigitte C. Weyls, AAC Designated Federal Officer, at 312-596-0547 or bweyls@cftc.gov.

SUPPLEMENTARY INFORMATION: The AAC's objectives and scope of activities are to assist the Commission in assessing issues affecting agricultural producers; consumers; processors; lenders; other major market participants, including derivatives intermediaries, buy-side representatives, and exchanges; regulators; and others interested in or affected by the agricultural derivatives markets through public meetings, and Committee reports and recommendations. The AAC will operate for two years from the date of renewal unless the Commission directs that the AAC terminate on an earlier date. A copy of the AAC renewal charter has been filed with the Commission; the Senate Committee on Agriculture, Nutrition and Forestry; the House Committee on Agriculture; the Library of Congress; and the General Services Administration's Committee Management Secretariat. A copy of the renewal charter will be posted on the Commission's website at www.cftc.gov.

(Authority: 5 U.S.C. App. II)

Dated: August 8, 2022.
Christopher Kirkpatrick,
Secretary of the Commission.

[FR Doc. 2022-17266 Filed 8-10-22; 8:45 am]

BILLING CODE 6351-01-P